FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Unifreight Cargo Systems, Inc., 1512 Avenida De Aprisa, Camarillo, CA 93010. Officer: Rolando P. Gipulan, President (Qualifying Individual).

First Express Logistics Inc., 147-38 182nd Street, Suite 204, Jamaica, NY 11413. Officer: Chang U James Lee, President (Qualifying Individual).

Forman Shipping U.S.A. Inc., 145-38 157th Street, 1st Floor, Jamaica, NY 11434. Officer: Sl Yual An, President (Qualifying Individual).

DB Shipping (USA) Inc., 150-30 132nd Ave., Suite 309, Jamaica, NY 11434. Officers: Fang Fei, Vice President (Qualifying Individual). Ren Chang Wang, President.

Airgate International Corporation (Chicago), 2249 Windsor Court, Addiston, IL 60101. Officers: Linda Murphy, Asst. Secretary (Qualifying Individual). Frank P. Zambuto, President.

Non-Vessel-Operating Common Carrier and Ocean Freight Forwarder Transportation Intermediary Applicants:

ADP Global Logistics, Inc. (USA), 6539 Whitelily Street, Corona, CA 92880. Officers: Yan Chen, CEO (Qualifying Individual). Hong Wang, Director.

All City Air and Ocean, Inc., 1605 John Street, Ste. 209, Ft. Lee, NJ 07024. Officer: Kathleen Dillon, Director (Qualifying Individual).

Titan Transport Services, LLC, 924 E. 20th Street, Hialeah, FL 33013. Officer: Yaquelin Rodriquez, President (Qualifying Individual).

Uninations Corporation, 57 Bernadette Road, Morganville, NJ 07751, Officer: Junlin Shen, President (Qualifying Individual).

Oxford Transport, Inc., 500 W. 140th Street, 1st Floor, Gardena, CA 90248. Officer: Soon Mi Kang, President (Qualifying Individual).

Ocean Freight Forwarder—Ocean Transportation Intermediary Applicantz.

Confianza Import Clearance, 810 W. Commonwealth Avenue, Alhambra, CA 91801. Peter Pang, Sole Proprietor.

Dated: December 12, 2005.
Bryant L. VanBrakle,
Secretary.

[FR Doc. E5-7405 Filed 12-15-05; 8:45 am]

BILLING CODE 6730-01-P